AGENCY FOR INTERNATIONAL DEVELOPMENT

Board for International Food and Agricultural Development; Notice of Meeting

Pursuant to the Federal Advisory Committee Act, notice is hereby given of the public meeting of the Board for International Food and Agricultural Development (BIFAD). The meeting will be held from 8:30 a.m. to 12:00 p.m. EDT on Friday, May 20, 2016, at the Center Ballroom, Alumni-Foundation Event Center, North Carolina Agricultural & Technical State University, 200 North Benbow Road, Greensboro, NC 27411. The meeting will be streamed live on the Internet. The link to the global live stream is on BIFAD's home page: http://www.usaid.gov/bifad.

The central theme of this public meeting will be Collaboration: Leadership, Innovation and Sustainable Technology to Meet the Demands of Global Agriculture. Dr. Brady Deaton, BIFAD Chair, will preside over the public business meeting, which will begin promptly at 8:30 a.m. EDT with opening remarks. At this meeting, the Board will address old and new business and hear updates from USAID, the university community, and other experts on the role of technology and innovation in meeting the demands of feeding the world's population.

Starting at 9:15 a.m., BIFAD will hear from the first panel, moderated by Dr. Valerie Giddings, Interim Associate Dean for research in the School of Agriculture and Environmental Sciences, on N.C. A&T Leadership in International Agricultural Innovation. Panelists include: Dr. Manuel Reyes, Professor in the Department of Natural Resources and Environmental Design in the School of Agriculture and Environmental Sciences; Dr. Osei Yeboah, Professor and Interim Director of the Leonard C. Cooper, Jr. International Trade Center; Dr. Anthony Yeboah, Professor and Chairperson of the Department of Agribusiness, Applied Economics and Agriscience Education.

Starting at 10:30 a.m., the second panel will present on Sustainable Technology Development to Meet Demands of Global Agriculture. Moderating this panel is Vice President of Agricultural Biotech Scott Johnson. Panelists include Dr. Nic Bate, Group Leader for Agronomic Traits, Syngenta, Dr. Gregory Kelly, COO, SoBran BioScience, and Kathy Flores, General Manager, Purdue Farms Specialty Crops.

At 11:30 a.m., Chairman Deaton will moderate a half-hour public comment period. At 12:00 p.m. EDT, Dr. Deaton will make closing remarks and adjourn the public meeting.

Those wishing to attend the meeting or obtain additional information about BIFAD should contact Clara Cohen, Interim Designated Federal Officer for BIFAD in the Bureau for Food Security at USAID. Interested persons may write to her in care of the U.S. Agency for International Development, Ronald Reagan Building, Bureau for Food Security, 1300 Pennsylvania Avenue NW., Washington, DC 20523-2110 or telephone her at (202) 712-0119.

Clara Cohen,
USAID Interim Designated Federal Officer for BIFAD, Bureau for Food Security, U.S. Agency for International Development.

[FR Doc. 2016-10934 Filed 5-9-16; 8:45 am]

BILLING CODE P